DEPARTMENT OF THE INTERIOR

Bureau of Land Management

43 CFR Part 2360

[PO #4820000251; Order #02412-014-004-047181.0]

RIN 1004-AF02

Rescission of the Management and Protection of the National Petroleum Reserve in Alaska Regulations

AGENCY: Bureau of Land Management, Interior.

ACTION: Proposed rule.

SUMMARY: The Bureau of Land Management (BLM) is proposing to rescind the “Management and Protection of the National Petroleum Reserve in Alaska” final rule, issued on May 7, 2024. We solicit comment on all aspects of this proposed rule.

DATES: Comments must be received by August 4, 2025. The BLM is not obligated to consider any comments received after this date in making its decision on the final rule.

Information Collection Requirements: This proposed rule includes revised and new information-collection requirements that must be approved by the Office of Management and Budget (OMB). If you wish to comment on the information-collection requirements, please note that those comments should be sent directly to OMB. OMB is required to make a decision concerning the collection of information contained in this proposed rule between 30 and 60 days after publication of this document in the Federal Register. Therefore, a comment to the OMB on the proposed information-collection revisions is best assured of being given full consideration if the OMB receives it by July 3, 2025.

ADDRESSES: Mail, Personal, or Messenger Delivery: U.S. Department of the Interior, Director (630), Bureau of Land Management, 1849 C St. NW, Room 5646, Washington, DC 20240, Attention: 1004-AF02.

Federal eRulemaking Portal: https://www.regulations.gov. In the Searchbox, enter “BLM-2025-0002” and click the “Search” button. Follow the instructions at this website.

FOR FURTHER INFORMATION CONTACT: Kyle Moorman, Chief, Division of Regulatory Affairs, telephone: 202-208-6913, email: kmoorman@blm.gov. Individuals in the United States who are deaf, deafblind, hard of hearing, or have a speech disability may dial 711 (TTY, TDD, or TeleBraille) to access telecommunications relay services. Individuals outside the United States should use the relay services offered within their country to make international calls to the point-of-contact in the United States. For a summary of the proposed rule, please see the proposed rule summary document in docket BLM-2025-0002 on www.regulations.gov.

For Comments on Information—Collection Activities

Information-Collection Requirements: Written comments and suggestions on the information-collection requirements should be submitted by the date specified earlier in DATES to www.reginfo.gov/public/do/PRAMain. Find this specific information-collection by selecting “Currently under Review—Open for Public Comments” or by using the search function.

If you submit comments on these information-collection burdens, you should provide the BLM with a copy at one of the addresses shown earlier in this section so that we can summarize all written comments and address them in the final rulemaking. Please indicate “Attention: Paperwork Reduction Act Comments (OMB Control Number 1004-0221).” Comments not pertaining to the proposed rule's information-collection burdens should not be submitted to OMB. The BLM is not obligated to consider or include in the Administrative Record for the final rule any comments that are improperly directed to OMB.

SUPPLEMENTARY INFORMATION: The BLM's governing regulations for management of surface resources within the National Petroleum Reserve-Alaska (the Reserve or NPR-A) are located at 43 CFR part 2360. These regulations were previously updated by a final rule “Management and Protection of the National Petroleum Reserve in Alaska,” 89 FR 38712 (May 7, 2024), with an effective date of June 6, 2024 (the 2024 Rule). The BLM has concluded that the 2024 Rule conflicts with and exceeds its statutory authority under the Naval Petroleum Reserves Production Act of 1976, Public Law 94-258 (90 Stat. 303; 42 U.S.C. 6501 et seq.) (NPRPA), undermines the purpose that Act, and is inconsistent with National energy policy, and the BLM is therefore proposing to rescind the 2024 rule and revert to the regulations that were in place prior to May 7, 2024.

Designated by President Warren G. Harding in 1923 as Naval Petroleum Reserve No. 4, in Executive Order (E.O.) 3797-A, the Reserve is one of several naval petroleum reserves established on public land in the shadow of World War I as an emergency oil reserve for the U.S. Navy. The Reserve, which is nearly the size of the State of Indiana, extends from the north slope of the Brooks Range to the Arctic Coast encompassing approximately 23 million acres of public land.

Various exploratory programs by the Navy were undertaken in the Reserve between 1944 to 1953, resulting in the discovery of two small oil fields (Simpson and Umiat), one prospective oil field (Fish Creek), a gas field (South Barrow), and four prospective gas fields (Meade, Square Lake, Titaluk, and Wolf Creek). The Navy also pioneered numerous methods for oil exploration in the Arctic and collected a significant amount of scientific information regarding northern Alaska.

Motivated by private industry's 1968 discovery of oil at Prudhoe Bay and the increasing price of oil due to the embargo that started in 1973, Congress passed NPRPA in 1976, which transferred administrative jurisdiction over the Reserve from the Secretary of the Navy to the Secretary of the Interior and redesignated the “Naval Petroleum Reserve Numbered 4, Alaska” as the “National Petroleum Reserve in Alaska.” At the time the NPRPA was enacted, the Reserve remained “largely unexplored and almost completely undeveloped.” H.R. Rep. No. 94-156, at 3 (1975). Between 1974 and 1977, the Navy drilled seven test wells in the northeast corner of the Reserve. These early explorations were significant undertakings that involved public funds, with a single test well costing the Federal Government approximately $100 million. They were also carried out with now-outdated technologies that left behind unsightly reminders of human activities, including tracks across the tundra, excavated rill sites, installation of pilings, and open reserve pits.

Congress recognized that accelerating exploration of the Reserve was “vital to the national interest to assess the amount and location of the potential oil and gas available in the . . . Reserve,” particularly in light of the national need for energy independence, while acknowledging that the “wildlife and many other values [in the Reserve] will have to be considered” and determined that “the Secretary of the Interior is best qualified to make judgments regarding these other values.” H.R. Rep. No. 94-81, at 8 (1975).

As a result, the NPRPA directs the Secretary of the Interior to commence petroleum exploration within the Reserve as soon as the administration of the Reserve is transferred to the Interior Department, the development of which needs to be regulated in “a manner consistent with the total energy needs of the Nation,” while authorizing the Secretary to “promulgate such rules and regulations as he deems necessary and appropriate for the protection of [environmental, fish and wildlife, and historical or scenic values] within the reserve.” 42 U.S.C. 6503(b), 6504(d).

The NPRPA further directs the Secretary to “assure the maximum protection of areas containing significant subsistence, recreational, fish and wildlife, or historical or scenic value, as determined by the Secretary, but only insofar as that protection is consistent with the requirements of [the NPRPA] for the exploration of the reserve.” 42 U.S.C. 6504(b). Soon thereafter, the BLM promulgated regulations to govern management and protection of surface resources in the Reserve that implement the direction in the NPRPA.

In 1979, the BLM completed a comprehensive “Study of the Reserve,” as required by the NPRPA, which determined the best overall procedures to be used in the development, production, transportation, and distribution of petroleum reserves in the reserve, the alternatives to those procedures, and the environmental consequences and submitted the results of that study to Congress. In response, Congress amended the NPRPA through the Department of the Interior Appropriations Act, Fiscal Year 1981, which directed the Secretary to “conduct an expeditious program of competitive leasing of oil and gas” in the Reserve, while “provid[ing] for such conditions, restrictions, and prohibitions as the Secretary deems necessary or appropriate to mitigate reasonably foreseeable and significantly adverse effects on . . . surface resources . . . .” Public Law 96-514, tit. I, 94 Stat. 2957, 2964 (1980). The Fiscal Year 1981 Appropriations Act also exempted the Reserve from the requirement to prepare land use plans under section 202 of FLPMA. Id.

Combined with the original direction in the NPRPA, the Fiscal Year 1981 Appropriations Act's amendments clarify that the Congress intended to dedicate management of the Reserve to the exploration and production of oil and gas in the NPR-A, while taking into consideration the need to protect surface resource values. Id. Further, because management of the NPR-A is expressly exempted from FLPMA section 202 by statute, the BLM is not required to manage the area subject to multiple use and sustained yield because it is subject to the dominant uses outlined in the NPRPA.

Decades later, Congress again revised the NPRPA to add more “production incentives” for private investment in the Reserve. See H.R. Rep. No. 96-1147 at 33 (1980); Energy Act of 2005, Public Law 109-58, tit. III, subtit. E, 347 119 Stat. 594. 704 (2005). Specifically, Congress extended the potential terms of leases out to 30 years, made it easier to renew leases, provided for unit agreements to efficiently develop leases, and included other measures “[t]o encourage the greatest ultimate recovery of oil or gas . . .” H.R. Rep. No. 96-1174, at 33. Congress also added language mandating that BLM “shall conduct” the expeditious program of competitive leasing” required by the Act. Id. (codified at 42 U.S.C. 6506a(a)).

It is important to note that Congress, when it established a competitive oil and gas leasing program in the Coastal Plain of the Artic National Wildlife Refuge—an area similar to the Reserve on the North Slope of Alaska—in 2017, directed the BLM to manage that program “in a manner similar to the administration of lease sales” under the NPRPA in recognition of the balanced and well-established process that had been established and implemented over decades with respect to the management and protection of surface resources in the Reserve, as well as the importance of Alaska's energy resources to the Nation's energy needs. See Public Law 115-97, tit. II, section 20001(b)(3), 131 Stat. 2054, 2236 (2017).

The 2024 Rule updated and expanded “procedures for the BLM to mitigate reasonably foreseeable and significantly adverse effects of proposed oil and gas activities on the surface resources of the” Reserve, and to “provide maximum protection for surface values within Special Areas for proposed oil and gas activities.” The 2024 Rule provides standards and procedures to mitigate adverse effects on the NPR-A and to govern exploration on the NPR-A. Specifically, the rule requires “the BLM, in each decision concerning oil and gas activity in the Reserve, to adopt measures to mitigate the reasonably foreseeable and significantly adverse effects on surface resources, taking particular care with surface resources that support subsistence.” The 2024 Rule also codifies five existing Special Areas and establishes a process for designating and de-designating Special Areas in the future. Id. In those Special Areas, the rule requires the BLM to manage oil and gas activities while protecting and supporting, among other things, wildlife and habitats. In particular, the 2024 Rule requires the Authorized Officer to “presume that proposed oil and gas activities should not be permitted unless specific information available to the authorized officer clearly demonstrates that those activities can be conducted with no or minimal adverse effects on significant resource values” in areas that “are allocated as available for future oil and gas leasing or new infrastructure.”

After a thorough review of the 2024 Rule, among other things, the BLM has determined that the rule imposes restrictions on oil and gas activities in a manner that is inconsistent with the NPRPA. While the NPRPA includes provisions that require protection of surface resources, including the maximum protection of significant resource values in special areas, the NPRPA is a dominant use statute that is focused on the management of exploration and production of oil and gas in the NPR-A. Driven by the oil embargo imposed by OPEC and energy crisis in the 1970s, Congress enacted the NPRPA to set aside the NPR-A as a petroleum reserve to help meet the Nation's total energy needs including the specific need for oil and gas and directed the Secretary to carry out an expeditious program of competitive leasing of oil and gas on BLM-administered lands within the Reserve. While the NPRPA provides for “maximum protection” of significant surface values in certain areas, it is clear from the text of the statute that Congress envisioned those areas would also be developed for oil and gas production.

Provisions in the 2024 NPR-A Rule that would hamper the exploration, leasing, and development of oil and gas resources within the NPR-A are contrary to the Congressional direction in the NPRPA to develop lands within the NPR-A, including special areas, as part of an expeditious oil and gas leasing program. For example, 43 CFR 2361.40(f) creates a presumption that proposed oil and gas activities should not be permitted on lands within Special Areas that are allocated as available for future oil and gas leasing or new infrastructure unless there is evidence that “clearly demonstrates that those activities can be conducted with no or minimal adverse effects on significant resource values or unless they are necessary to comport with the terms of a valid existing lease.” Section 2361.40(f) would effectively prohibit any new oil and gas leasing and new infrastructure not required for existing leases in areas that the BLM has already determined that the balancing of objectives required by the NPRPA leans in favor of allowing future oil and gas leasing and new infrastructure, contrary to the purposes of the NPRPA. Federal case law is clear that while the BLM is required to strike a balance between the NPRPA's two directives of conducting an expeditious oil and gas leasing program in the NPR-A while protecting significant surface resources, a decision by the BLM that would, “leave considerable quantities of economically recoverable oil in the ground is quite simply inconsistent with the Congressional policy objective of resource extraction in the NPR-A.” Sovereign Iñupiat for a Living Arctic v. BLM, 701 F. Supp. 3d 862, at 880-81 (D. Alaska 2023).

Further, the rule is unnecessary to effectively manage surface resources in the NPR-A. Management decisions, including what stipulations and required operating procedures are necessary to ensure proper protection of surface resources are made through the integrated activity plan process. The new provisions within the 2024 Rule simply add additional, unnecessary processes that could complicate the BLM's ability to make timely decisions for protection of surface resources and for authorized uses within the NPR-A.

The 2024 rule is also inconsistent with the priorities of the Trump administration. In January 2025, President Trump issued E.O. 14153 Unleashing Alaska's Extraordinary Resource Potential highlighting the need to unlock the abundant and largely untapped supply of energy resources within the State of Alaska to increase the prosperity of American citizens while helping to enhance our Nation's economic and national security for generations to come. To do so, the E.O. explains that it is “imperative to immediately reverse the punitive restrictions implemented by the previous administration that specifically target resource development on both State and Federal lands in Alaska,” and specifically directs the rescission of the 2024 rule consistent with applicable law. On the same day, the President also issued E.O. 14154, Unleashing American Energy and E.O. 14156 Declaring a National Energy Emergency, which directed Federal agencies to appropriately address the inadequate development of domestic energy resources to maintain the United States' prosperity and national security.

Finally, the 2024 proposed rule and economic analysis framed the regulatory changes as largely clarifying and concluded that the rule would not have major economic impacts. The agency received approximately 89,000 public comments on the proposal. Many of these comments, including those submitted by representatives of industry, Tribes, and the State of Alaska, expressed concern that the 2024 rule would have wide-ranging economic impacts that may have been materially underestimated in the analysis. In re-evaluating the 2024 rule, the agency is taking a closer look at those public comments and believe that they may raise important questions about whether the economic impacts of the 2024 rule were materially underestimated. The agency is therefore soliciting comment on the economic effects associated with both the 2024 rule and this proposal to repeal that rule.

Consistent with the direction from the President, the BLM's policy is to allow the maximum possible extraction of gas and oil to meet the Nation's total energy need, consistent with statutory requirements. The BLM is seeking comments on all of the above, including but not limited to the 2024 Rule's consistency with statutory authority, its costs and benefits, and its effects on extraction of oil and gas, and economic impacts.

Therefore, we propose to rescind the 2024 Rule in full, returning the regulations in 43 CFR part 2360 to their prior status quo under the rule promulgated in 1977 (42 FR 28721, June 3, 1977) and seek comment on that proposal.

Regulatory Flexibility Act

Under the Regulatory Flexibility Act (as amended by the Small Business Regulatory Enforcement Fairness Act (SBREFA) of 1996; 5 U.S.C. 601 et seq.), whenever a Federal agency is required to publish a notice of rulemaking for any proposed or final rule, it must prepare and make available for public comment a regulatory flexibility analysis that describes the effect of the rule on small entities (i.e., small businesses, small organizations, and small government jurisdictions). No regulatory flexibility analysis is required if the head of an agency or an appropriate designee certifies that the rule will not have a significant economic impact on a substantial number of small entities. Here, if adopted as proposed, this rule may have a significant economic impact on a substantial number of small entities.

The proposed rule seeks comment on the rescission of the 2024 NPR-A rule. When it promulgated the 2024 rule, the BLM certified that it would not have a significant effect on a substantial number of small entities under the Regulatory Flexibility Act. That analysis identified four small businesses and four small government jurisdictions that may be affected by the rule. However, the BLM did not find evidence suggesting there would be a significant impact on these small entities. The proposed NPR-A rule is expected to provide regulatory cost savings to small entities. We anticipate the removal of the 2024 rule requirements will generate small entity regulatory cost savings and allow for further benefits in the form of additional economic opportunities for energy development, such as the ability to work on energy infrastructure projects and reduced energy prices once those projects are completed. Because the proposed rule would fully repeal the 2024 rule, the proposed rule maximizes the regulatory cost savings for affected small entities. However, BLM considered two alternatives to the NPR-A proposed rule to assess whether benefits could be further increased for small entities. First, BLM considered a partial repeal of 2024 requirements that would meet BLM's statutory objectives and provide more benefits to small entities. Such a repeal was not selected because it would not be authorized under BLM's authority. Second, BLM considered delaying the repeal of requirements over time for affected small entities. This option was not selected because this would unnecessarily delay the benefits available for small entities, does not achieve BLM's objectives, and would not be authorized under BLM's authority. BLM solicits comments from affected small entities on the Initial Regulatory Flexibility Analysis in the notice and comment process. BLM is working with SBA's Office of Advocacy to ensure that small business impacts are properly assessed and considered according to the Regulatory Flexibility Act.

Paperwork Reduction Act

The Paperwork Reduction Act (PRA) (44 U.S.C. 3501-3521) generally provides that an agency may not conduct or sponsor and not withstanding any other provision of law a person is not required to respond to, a collection of information, unless it displays a currently valid Office of Management and Budget (OMB) control number. Collections of information include any request or requirement that persons obtain, maintain, retain, or report information to an agency, or disclose information to a third party or to the public (44 U.S.C. 3502(3) and 5 CFR 1320.3(c)).

This proposed rule contains information-collection requirements that are subject to review by OMB under the PRA. The information-collection requirements pertaining to submitting recommendations to designate lands as an SA within the Reserve are generally approved by OMB under OMB Control Number 1004-0221 with a current expiration date of October 31, 2027.

The proposed rule would rescind and revise the information collection requirements pertaining to submitting SA recommendations within the Reserve. The existing information collection requirements would be moved from the rescinded 43 CFR 2361.30 through 2361.1(d). The change to the information collection requirements, along with the estimated associated burdens, are discussed below.

Recommendations for Special Areas (43 CFR 2361.1(d))

The current regulations at § 2361.30(b)(3) contain one (1) non-form information collection requirement that is subject to the PRA. The current § 2361.30(b)(3) provides that the following information be provided when a member of the public recommends lands for a SA designation:

• The size and location of the recommended lands;

• The significant subsistence, recreational, fish and wildlife, historical, or scenic resource values that are present within or supported by the recommended lands;

• Measures that may be necessary to assure maximum protection of those values; and

• Any other pertinent information.

The proposed revised information collection requirements located in § 2361.1(d) would be as follows:

• A description of the values which make the area special;

• The significant subsistence, recreational, fish and wildlife, historical, or scenic resource values that are present within or supported by the recommended lands (See § 2361.0-5(f)) (See § 2361.0-5(f));

• The size and location of the area on appropriate USGS quadrangle maps; and

• Any other pertinent information.

The BLM does not believe that the revised information collection requirements for SA recommendations would result in a change in public burdens under this OMB Control

Number 1004-0221. The only significant change from the existing to proposed information collection requirement for SA recommendations is the simplification of the administrative process and the specific request for USGS quadrangle maps. Additionally, we will adjust the estimated number of annual responses from 100 to 10 as we believe that it is unlikely that the BLM would receive more than 10 recommendations year. This adjustment will reduce the annual estimated burden hours associated with SA recommendations from 1,500 to 150.

The total burdens under this OMB Control Number are summarized below.

Title of Collection: Management and Protection of the National Petroleum Reserve in Alaska—Recommendations for Special Reserve Areas (43 CFR 2361.1(d)).

OMB Control Number: 1004-0221.

Form Numbers: None.

Type of Review: Revision of a currently approved collection.

Respondents/Affected Public: Participants within the oil and gas exploration program.

Respondent's Obligation: Voluntary.

Frequency of Collection: On occasion.

Estimated Completion Time per Response: 15 hours.

Number of Respondents: 10.

Annual Responses: 10.

Annual Burden Hours: 150.

Annual Burden Cost: None.

If you want to comment on the proposed recission of the information-collection requirements that would result from this proposed rule, please send your comments and suggestions on this proposed action as previously described in the DATES and ADDRESSES sections.

National Environmental Policy Act (NEPA)

The BLM intends to apply the Departmental Categorical Exclusion (CX) at 43 CFR 46.210(i) to comply with NEPA. The CX covers policies, directives, regulations, and guidelines that are “of an administrative, financial, legal, technical, or procedural nature or whose environmental effects are too broad, speculative, or conjectural to lend themselves to meaningful analysis and will later be subject to the NEPA process, either collectively or case-by-case.” Further, the proposed rule does not implicate any of the extraordinary circumstances listed in 43 CFR 46.215. The BLM plans to document the applicability of the CX concurrently with development of the final rule.

Regulatory Planning and Review

Review Under Executive Order (E.O.) 12866

Section 6(a) of E.O. 12866 requires agencies to submit “significant regulatory actions” to OIRA for review. OIRA has determined that this proposed regulatory action constitutes a “significant regulatory action” under section 3(f) of E.O. 12866. Accordingly, this action was submitted to OIRA for review under E.O. 12866.

BLM is required to conduct an economic analysis in accordance with section 6(a)(3)(B) of E.O. 12866. More can be found in docket titled, “Economic Analysis for Draft Recission: Management and Protection of the National Petroleum Reserve in Alaska.” A discussion of alternatives considered can be found in the section entitled Regulatory Flexibility Act above.

Review Under E.O.s 14154, 14153, and 14192

DOI has examined this proposed rulemaking and has tentatively determined that it is consistent with the policies and directives outlined in E.O. 14154 “Unleashing American Energy,” E.O. 14192, “Unleashing Prosperity Through Deregulation,” and E.O. 14153 “Unleashing Alaska's Extraordinary Resource Potential.” This proposed rule, if finalized as proposed, is expected to be an E.O. 14192 deregulatory action.

Actions Concerning Regulations That Significantly Affect Energy Supply, Distribution, or Use (E.O. 13211)

Under E.O. 13211, agencies are required to prepare and submit a Statement of Energy Effects to the Administrator of the Office of Information and Regulatory Affairs, Office of Management and Budget, for those matters identified as significant energy actions. This statement is to include a detailed statement of “any adverse effects on energy supply, distribution, or use (including a shortfall in supply, price increases, and increase use of foreign supplies) should the proposal be implemented” and “reasonable alternatives to the action with adverse energy effects and the expected effects of such alternatives on energy supply, distribution, and use.”

Section 4(b) of E.O. 13211 defines a “significant energy action” as “any action by an agency (normally published in the Federal Register) that promulgates or is expected to lead to the promulgation of a final rule or regulation, including notices of inquiry, advance notices of proposed rulemaking, and notices of proposed rulemaking: (1)(i) that is a significant regulatory action under E.O. 12866 or any successor order, and (ii) is likely to have a significant adverse effect on the supply, distribution, or use of energy; or (2) that is designated by OIRA as a significant energy action.”

This proposed rule, if finalized as proposed, is expected to not have a significant adverse effect on the Nation's energy supply.

(Authority: 42 U.S.C. 6501 et seq.; 43 U.S.C. 1701 et seq.)

Adam G. Suess,
Acting Assistant Secretary, Land and Minerals Management.

List of Subjects in 43 CFR Part 2360

Alaska, Oil and gas activity, Protection of surface resources, Tribes, Special areas.

For the reasons set out in the preamble, the Bureau of Land Management proposes to revise 43 CFR part 2360 as follows:

PART 2360—NATIONAL PETROLEUM RESERVE IN ALASKA

Subpart 2361—Management and Protection of the National Petroleum Reserve in Alaska

Sec.
2361.0-1 Purpose.
2361.0-2 Objectives.
2361.0-3 Authority.
2361.0-4 Responsibility.
2361.0-5 Definitions.
2361.0-6 [Reserved]
2361.0-7 Effect of law.
2361.1 Protection of the environment.
2361.2 Use authorizations.
2361.3 Unauthorized use and occupancy.

Subpart 2362 [Reserved]

Authority: 43 U.S.C. 6501 et seq. and 43 U.S.C. 1702 et seq.

§ 2361.0-1 Purpose.

The purpose of the regulations in this subpart is to provide procedures for the protection and control of environmental, fish and wildlife, and historical or scenic values in the National Petroleum Reserve in Alaska pursuant to the provisions of the Naval Petroleum Reserves Production Act of 1976 (90 Stat. 303; 42 U.S.C. 6501 et seq.).

§ 2361.0-2 Objectives.

The objective of this subpart is to provide for the protection of the environmental, fish and wildlife, and historical or scenic values of the Reserve so that activities which are or might be detrimental to such values will be carefully controlled to the extent consistent with the requirements of the Act for petroleum exploration of the reserve.

§ 2361.0-3 Authority.

The Naval Petroleum Reserve Production Act of 1976 (90 Stat. 303, 42 U.S.C. 6501, et seq.) is the statutory authority for this subpart.

§ 2361.0-4 Responsibility.

(a) The Bureau of Land Management (BLM) is responsible for the surface management of the reserve and protection of the surface values from environmental degradation, and to prepare rules and regulations necessary to carry out surface management and protection duties.

(b) The U.S. Geological Survey is responsible for management of the continuing exploration program during the interim between the transfer of jurisdiction from the U.S. Navy to the U.S. Department of the Interior and the effective date of any legislation for a permanent development and production program to enforce regulations and stipulations which relate to the exploration of petroleum resources of the Reserve, and to operate the South Barrow gas field or such other fields as may be necessary to supply gas at reasonable and equitable rates to the Native village of Barrow and other communities and installations at or near Point Barrow, Alaska, and to installations of the Department of Defense and other agencies of the U.S. located at or near Point Barrow, Alaska.

§ 2361.0-5 Definitions.

As used in this subpart, the following terms shall have the following meanings:

(a) Act means the Naval Petroleum Reserves Production Act of 1976 (90 Stat. 303, 42 U.S.C. 6501, et seq.).

(b) Authorized officer means any employee of the Bureau of Land Management who has been delegated the authority to perform the duties of this subpart.

(c) Exploration means activities conducted on the Reserve for the purpose of evaluating petroleum resources which include crude oil, gases of all kinds (natural gas, hydrogen, carbon dioxide, helium, and any others), natural gasoline, and related hydrocarbons (tar sands, asphalt, propane butane, etc.), oil shale and the products of such resources.

(d) Reserve means those lands within the National Petroleum Reserve in Alaska (prior to June 1, 1977, designated Naval Petroleum Reserve No. 4) which was established by Executive order of the President, dated February 27, 1923, except for tract Numbered 1 as described in Public Land Order 2344 (the Naval Arctic Research Laboratory—surface estate only) dated April 24, 1961.

(e) Secretary means the Secretary of the Interior.

(f) Special areas means areas within the reserve identified by the Secretary of the Interior as having significant subsistence, recreational, fish and wildlife, or historical or scenic value and, therefore, warranting maximum protection of such values to the extent consistent with the requirements of the Act for the exploration of the Reserve.

(g) Use authorization means a written approval of a request for use of land or resources.

§ 2361.0-6 [Reserved]

§ 2361.0-7 Effect of law.

(a) Subject to valid existing rights, all lands within the exterior boundaries of the Reserve are reserved and withdrawn from all forms of entry and disposition under the public land laws, including the mining and mineral leasing laws, and all other Acts.

(b) Notwithstanding the provisions of paragraph (a) of this section, the Secretary is authorized to:

(1) Make dispositions of mineral materials pursuant to the Act of July 31, 1947 (61 Stat. 681), as amended (30 U.S.C. 601), for appropriate use by Alaska Natives.

(2) Make such dispositions of mineral materials and grant such rights-of-way, licenses, and permits as may be necessary to carry out his responsibilities under the Act.

(3) Convey the surface of lands properly selected on or before December 18, 1975, by Native village corporations pursuant to the Alaska Native Claims Settlement Act, as amended (43 U.S.C. 1601, et seq.).

(c) All other provisions of law heretofore enacted and actions heretofore taken reserving such lands as a Reserve shall remain in full force and effect to the extent not inconsistent with the Act.

(d) To the extent not inconsistent with the Act, all other public land laws are applicable.

§ 2361.1 Protection of the environment.

(a) The authorized officer shall take such action, including monitoring, as he deems necessary to mitigate or avoid unnecessary surface damage and to minimize ecological disturbance throughout the reserve to the extent consistent with the requirements of the Act for the exploration of the reserve.

(b) The Cooperative Procedures of January 18, 1977, for National Petroleum Reserve in Alaska between the Bureau of Land Management (BLM) and the U.S. Geological Survey (GS) provides the procedures for the mutual cooperation and interface of authority and responsibility between GS and BLM concerning petroleum exploration activities (i.e., geophysical and drilling operations), the protection of the environment during such activities in the Reserve, and other related activities.

(c) Maximum protection measures shall be taken on all actions within the Utukok River Uplands, Colville River, and Teshekpuk Lake special areas, and any other special areas identified by the Secretary as having significant subsistence, recreational, fish and wildlife, or historical or scenic value. The boundaries of these areas and any other special areas identified by the Secretary shall be identified on maps and be available for public inspection in the Fairbanks District Office. In addition, the legal description of the three special areas designated herein and any new areas identified hereafter will be published in the Federal Register and appropriate local newspapers. Maximum protection may include, but is not limited to, requirements for:

(1) Rescheduling activities and use of alternative routes;

(2) Types of vehicles and loadings;

(3) Limiting types of aircraft in combination with minimum flight altitudes and distances from identified places; and

(4) Special fuel handling procedures.

(d) Recommendations for additional special areas may be submitted at any time to the authorized officer. Each recommendation shall contain a description of the values which make the area special, the size and location of the area on appropriate USGS quadrangle maps, and any other pertinent information. The authorized officer shall seek comments on the recommendation(s) from interested public agencies, groups, and persons. These comments shall be submitted along with his recommendation to the Secretary. Pursuant to section 104(b) of the Act, the Secretary may designate that area(s) which he determines to have special values requiring maximum protection. Any such designated area shall be identified in accordance with the provision of paragraph (c) of this section.

(e)(1) To the extent consistent with the requirements of the Act and after consultation with appropriate Federal, State, and local agencies and Native organizations, the authorized officer may limit, restrict, or prohibit use of and access to lands within the Reserve, including special areas. On proper notice as determined by the authorized officer, such actions may be taken to protect fish and wildlife breeding, nesting, spawning, lambing of calving activity, major migrations of fish and wildlife, and other environmental, scenic, or historic values.

(2) The consultation requirement in paragraph (e)(1) of this section is not required when the authorized officer determines that emergency measures are required.

(f) No site, structure, object, or other values of historical archaeological, cultural, or paleontological character, including but not limited to historic and prehistoric remains, fossils, and artifacts, shall be injured, altered, destroyed, or collected without a current Federal Antiquities permit.

§ 2361.2 Use authorizations.

(a) Except for petroleum exploration which has been authorized by the Act, use authorizations must be obtained from the authorized officer prior to any use within the Reserve. Only those uses which are consistent with the purposes and objectives of the Act will be authorized.

(b) Except as may be limited, restricted, or prohibited by the authorized officer pursuant to § 2361.1 or otherwise, use authorizations are not required for:

(1) Subsistence uses (e.g., hunting, fishing, and berry picking); and

(2) Recreational uses (e.g., hunting, fishing, backpacking, and wildlife observation).

(c) Applications for use authorizations shall be filed in accordance with applicable regulations in this chapter. In the absence of such regulation, the authorized officer may make such dispositions absence of such regulations, the author-of mineral materials and grant such rights-of-way, licenses, and permits as may be necessary to carry out his responsibilities under the Act.

(d) In addition to other statutory or regulatory requirements, approval of applications for use authorizations shall be subject to such terms and conditions which the authorized officer determines to be necessary to protect the environmental, fish and wildlife, and historical or scenic values of the Reserve.

§ 2361.3 Unauthorized use and occupancy.

Any person who violates or fails to comply with regulations of this subpart is subject to prosecution, including trespass and liability for damages, pursuant to the appropriate laws.

[FR Doc. 2025-10058 Filed 6-2-25; 8:45 am]

BILLING CODE 4331-27-P